FEDERAL COMMUNICATIONS COMMISSION

47 CFR Part 54

[WC Docket No. 02-60; FCC 12-150]

Rural Health Care Support Mechanism

AGENCY: Federal Communications Commission.

ACTION: Final rule; announcement of effective date.

SUMMARY: In this document, the Commission announces that the Office of Management and Budget (OMB) has approved, for a period of three years, the information collection associated with the Commission's Universal Service—Rural Health Care Program, Report and Order (Order). This notice is consistent with the Order, which stated that the Commission would publish a document in the Federal Register announcing the effective date of those rules.

DATES: The amendments to 47 CFR 54.601(b), 54.603(a) and (b), 54.609(d)(2), 54.615(c), 54.619(a)(1) and (d), 54.623(a), 54.631(a) and (c), 54.632, 54.633(c), 54.634(b), 54.636, 54.639(d), 54.642, 54.643, 54.645, 54.646, 54.647, 54.648(b), and 54.675(d), published at 78 FR 13936, March 1, 2013, are effective September 9, 2013.

FOR FURTHER INFORMATION CONTACT: Linda Oliver, Wireline Competition Bureau at (202) 418-1732 or TTY (202) 418-0484. For additional information concerning the Paperwork Reduction Act information collection requirements contained in this document, send an email to PRA@fcc.gov or contact Judith B. Herman at 202-418-0214.

SUPPLEMENTARY INFORMATION: This document announces that, on August 22, 2013 (as amended August 23, 2013), OMB approved, for a period of three years, the information collection requirements contained in the Commission's Order, FCC 12-150, published at 78 FR 13936, March 1, 2013. The OMB Control Number is 3060-0804. The Commission publishes this notice as an announcement of the effective date of the rules.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on August 22, 2013 (as amended on August 23, 2013), for the information collection requirements contained in the Commission's rules at 47 CFR 54.601(b), 54.603(a) and (b), 54.609(d)(2), 54.615(c), 54.619(a)(1) and (d), 54.623(a), 54.631(a) and (c), 54.632, 54.633(c), 54.634(b), 54.636, 54.639(d), 54.642, 54.643, 54.645, 54.646, 54.647, 54.648(b), and 54.675(d).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0804.

The foregoing notice is required by the Paperwork Reduction Act of 1995, Public Law 104-13, October 1, 1995, and 44 U.S.C. 3507.

The total annual reporting burdens and costs for the respondents are as follows:

OMB Control Number: 3060-0804.

OMB Approval Date: August 22, 2013 (as amended August 23, 2013).

OMB Expiration Date: August 31, 2016.

Title: Universal Service—Rural Health Care Program, WC Docket No. 02-60.

Form Number: FCC Forms 460, 461, 462, 463 (new FCC forms); 465, 466, 466-A and 467.

Type of Review: Revision of a currently approved collection.

Respondents: Business or other for-profit, not for profit institutions, federal government and state, local and tribal government.

Number of Respondents and Responses: 11,000 respondents; 54,041 responses.

Estimated Time per Response: 1.21 hours (average).

Frequency of Response: On occasion, one time, annual, quarterly and monthly reporting requirements and recordkeeping requirements.

Obligation To Respond: Required to obtain or retain benefits. Statutory authority for this information collection is contained in 47 U.S.C. 151, 154(i), 154(j), 201-205, 214, 254 and 403 of the Communications Act of 1934, as amended.

Total Annual Burden: 65,539 hours.

Total Annual Cost: N/A.

Privacy Impact Assessment: N/A.

Nature and Extent of Confidentiality: The Commission is not requesting that the respondents submit confidential information to the FCC. Respondents may, however, request confidential treatment for information they believe to be confidential under 47 CFR 0.459 of the Commission's rules. We note that the universal service administrator must preserve the confidentiality of all data obtained from respondents and contributors to the universal service support program mechanism; must not use the data except for purposes of administering the universal service support program; and must not disclose data in company-specific form unless directed to do so by the Commission.

Needs and Uses: In the December 2012 Order, FCC 12-150, published at 78 FR 13936, March 1, 2013, the Commission established the Healthcare Connect Fund, which reforms, expands, and modernizes the Rural Health Care program based on lessons learned from the Pilot Program. The Commission also established the Skilled Nursing Facilities Pilot (SNF Pilot) to test how to support broadband connections for skilled nursing facilities.

All the requirements herein are necessary to administer the Rural Health Care support mechanism (Health Care Connect Fund, Telecommunications Program, Internet Access Program, Pilot Program, and SNF Pilot), to determine the amount of support entities seeking funding are eligible to receive, to determine if entities are complying with the Commission's rules, and to prevent waste, fraud, and abuse. The information collected will also allow the Commission to evaluate the extent to which the Rural Health Care programs are meeting the statutory objectives specified in section 254(h) of the 1996 Act and the Commission's own performance goals for the Healthcare Connect Fund, and to evaluate the need and feasibility for any future revisions to program rules.

Federal Communications Commission.
Sheryl Todd,
Deputy Secretary.

[FR Doc. 2013-21812 Filed 9-6-13; 8:45 am]

BILLING CODE 6712-01-P